COMMITTEE FOR THE IMPLEMENTATION OF TEXTILE AGREEMENTS

Extension of Period of Determination for Textile and Apparel Safeguard Action on Imports From Honduras of Cotton, Wool and Man-Made Fiber Socks

November 6, 2007.

AGENCY: The Committee for the Implementation of Textile Agreements (the Committee).

ACTION: Notice.

SUMMARY: The Committee is extending through December 19, 2007 the period for making a determination on whether to request consultations with Honduras regarding imports of cotton, wool and man-made fiber socks (merged Category 332/432 and 632 part).

FOR FURTHER INFORMATION CONTACT: Sergio Botero, Office of Textiles and Apparel, U.S. Department of Commerce, (202) 482-2487.

SUPPLEMENTARY INFORMATION:

Authority: Title III, Subtitle B, Section 321 through Section 328 of the Dominican Republic-Central America-United States Free Trade Agreement (“CAFTA-DR” or the “Agreement”) Implementation Act; Article 3.23 of the Dominican Republic-Central America-United States Free Trade Agreement.

Background

In accordance with section 4 of the Committee's Procedures (“Procedures”) for considering action under the CAFTA-DR textile and apparel safeguard, (71 FR 25157, April 28, 2006), the Committee decided, on its own initiative, to consider whether imports of Honduran origin cotton, wool and man-made fiber socks are being imported into the United States in such increased quantities, in absolute terms or relative to the domestic market for cotton, wool and man-made fiber socks, and under such conditions as to cause serious damage, or actual threat thereof, to the U.S. industry producing these products.

On August 21, 2007 the Committee solicited public comments regarding possible safeguard action on imports from Honduras of cotton, wool and man-made fiber socks (merged Category 332/432 and 632 part). This 30-day period allowed the public an opportunity to provide information and analysis to assist the Committee in considering this issue and in determining whether safeguard action is appropriate. See Solicitation of Public Comments Regarding Possible Safeguard Action on Imports from Honduras of Cotton, Wool and Man-Made Fiber Socks, 72 FR 46611.

The Procedures state that the Committee will make a determination within 60 calendar days of the close of the public comment period as to whether the United States will request consultations with Honduras. If the Committee is unable to make a determination within 60 calendar days, it will cause to be published a notice in the Federal Register, including the date by which it will make a determination.

The 60 day determination period for this case will expire on November 19, 2007. However, the Committee decided to extend until December 19, 2007, the period for making a determination on this case to continue examining the public comments, trade data and all other relevant information available to determine whether a request for consultations with Honduras and import tariff relief to the U.S. industry producing socks is warranted.

R. Matthew Priest,
Chairman, Committee for the Implementation of Textile Agreements.

[FR Doc. E7-22156 Filed 11-13-07; 8:45 am]

BILLING CODE 3510-DS-P